DEPARTMENT OF LABOR

Employment and Training Administration

[TA-W-41,566]

Johanna York, Inc., New York, NY; Notice of Termination of Investigation

Pursuant to section 221 of the Trade Act of 1974, an investigation was initiated on May 20, 2002 in response to a worker petition, which was filed on behalf of workers at Johanna York, Inc., New York, New York.

The Department has been unable to locate or communicate with principals of the firm or otherwise obtain information to reach a determination on worker eligibility. Consequently, further investigation in this case would serve no purpose, and the investigation has been terminated.

Signed in Washington, DC, this 19th day of August 2002.
Elliott S. Kushner,
Certifying Officer, Division of Trade Adjustment Assistance.

[FR Doc. 02-24112 Filed 9-20-02; 8:45 am]

BILLING CODE 4510-30-P